DEPARTMENT OF DEFENSE

Department of the Army, Corps of Engineers

33 CFR Part 334

United States Marine Corps Restricted Area and Danger Zone, Neuse River and Tributaries, Marine Corps Air Station Cherry Point, NC

AGENCY: United States Army Corps of Engineers, DoD.

ACTION: Final rule.

SUMMARY: The Corps of Engineers is amending its regulations to designate an existing rifle range fan as a danger zone. The military exercise area is located within the Rifle Range of Marine Corps Air Station Cherry Point, North Carolina, along the Neuse River. The danger zone will only be activated by the Marine Corps Air Station Cherry Point during range operational hours. The Marine Corps will advise residents in the vicinity of the range fan thus ensuring their safety by alerting them to temporary potential hazardous conditions which may exist as a result of small arms exercises. There will be no change in the use of the existing exercise area. The area will be marked on navigation charts to ensure security and safety for the public. Entry points into the danger zone will be prominently marked with signage indicating the boundary of the danger zone. The placement of aids to navigation and regulatory markers will be installed in accordance with the requirements of the United States Coast Guard. If the proposed signage exceeds nationwide permit and/or regional general permit conditions, the Commander, United States Marine Corps, Marine Corps Air Station Cherry Point, North Carolina, will seek additional Department of the Army authorizations.

DATES: Effective date: August 18, 2008.

ADDRESSES: U.S. Army Corps of Engineers, ATTN: CECW-CO (David B. Olson), 441 G Street, NW., Washington, DC 20314-1000.

FOR FURTHER INFORMATION CONTACT: Mr. David Olson, Headquarters, Operations and Regulatory Community of Practice, Washington, DC, at (202) 761-4922, Mr. Scott Jones, Corps of Engineers, Wilmington District, Regulatory Branch, at (202) 761-7763, or Ms. Tracey Wheeler, Corps of Engineers, Wilmington District, Regulatory Branch, at (252) 975-1616.

SUPPLEMENTARY INFORMATION: In the April 25, 2007, issue of the Federal Register (72 FR 20460), the Corps published a proposed rule to designate an existing rifle range fan as a danger zone. The proposed danger zone is within an existing restricted area that was established in 1951 (16 FR 2578) and amended in 1997 (62 FR 17553). In response to the April 25, 2007, proposed rule, no comments were received.

Pursuant to its authorities in section 7 of the Rivers and Harbors Act of 1917 (40 Stat. 266; 33 U.S.C. 1) and Chapter XIX of the Army Appropriations Act of 1919 (40 Stat. 892; 33 U.S.C. 3), the Corps amends 33 CFR 334.430 by adding a danger zone along the Neuse River as described below. The regulations governing the existing restricted area have not been changed.

Procedural Requirements

a. Review Under Executive Order 12866

This rule is issued with respect to a military function of the Defense Department and the provisions of Executive Order 12866 do not apply.

b. Review Under the Regulatory Flexibility Act

This rule has been reviewed under the Regulatory Flexibility Act (Pub. L. 96-354) which requires the preparation of a regulatory flexibility analysis for any regulation that will have a significant economic impact on a substantial number of small entities (i.e., small businesses and small governments). The Corps has determined that the establishment of this danger zone will have practically no economic impact on the public, result in no anticipated navigational hazard, and will not interfere with existing waterway traffic. This rule will have no significant economic impact on small entities.

c. Review Under the National Environmental Policy Act

Due to the administrative nature of this action and because there is no intended change in the use of the area, the Corps determined that this regulation will not have a significant impact to the quality of the human environment and, therefore, preparation of an environmental impact statement will not be required. An environmental assessment has been prepared. The environmental assessment may be reviewed at the District office listed at the end of FOR FURTHER INFORMATION CONTACT, above.

d. Unfunded Mandates Act

This rule does not impose an enforceable duty on the private sector and, therefore, it is not a Federal private sector mandate and it is not subject to the requirements of either section 202 or section 205 of the Unfunded Mandates Act. We have also found under section 203 of the Act that small governments will not be significantly and uniquely affected by this rulemaking.

List of Subjects in 33 CFR Part 334

Danger zones, Marine safety, Navigation (water), Restricted areas, Waterways.

For the reasons set out in the preamble, the Corps amends 33 CFR part 334, as follows:

PART 334—DANGER ZONE AND RESTRICTED AREA REGULATIONS

1. The authority citation for part 334 continues to read as follows:

Authority: 40 Stat. 266 (33 U.S.C. 1) and 40 Stat. 892 (33 U.S.C. 3).

2. Revise § 334.430 to read as follows:

§ 334.430 Neuse River and tributaries at Marine Corps Air Station Cherry Point, North Carolina; restricted area and danger zone.

(a) The restricted area. That portion of Neuse River within 500 feet of the shore along the reservation of the Marine Corps Air Station, Cherry Point, North Carolina, extending from the mouth of Hancock Creek to a point approximately 6,800 feet west of the mouth of Slocum Creek, and all waters of Hancock and Slocum Creeks and their tributaries within the boundaries of the reservation.

(b) The danger zone. The waters within an area beginning at latitude 34.923425° N, longitude −76.853222° W; thence northeasterly across Hancock Creek to latitude 34.925258° N, longitude −76.849864° W; continuing northeasterly to latitude 34.933382° N, longitude −76.835081° W; thence northwesterly to the Neuse River shoreline at latitude 34.936986° N, longitude −76.841197° W, continuing northwesterly to latitude 34.943275° N, longitude −76.852169° W; thence southwesterly along the shorelines to latitude 34.935111° N, longitude −76.859078° W; thence southeasterly along Hancock Creek shoreline to the point of origin.

(c) The regulations. (1) Except in cases of extreme emergency, all persons or vessels, other than those operated by the United States Navy or United States Coast Guard, are prohibited from entering the restricted area without prior permission of the enforcing agency.

(2) Entry points into the danger zone will be prominently marked with signage indicating the boundary of the danger zone.

(3) Firing will take place both day and night at irregular periods throughout the year. Appropriate warnings will be issued through official government and civilian channels serving the region. Such warnings will specify the time and duration of operations and give such other pertinent information as may be required in the interest of safety. Upon completion of firing or if the scheduled firing is cancelled for any reason, the warning signals marking the danger zone will be removed.

(4) Except as otherwise provided in this section the danger zone will be open to general public access. Vessels, watercraft, and other vehicles may proceed through the danger zone.

(5) The regulation in this section shall be enforced by the Commanding Officer, Marine Corps Air Station Cherry Point, North Carolina, and/or persons or agencies as he/she may designate.

Dated: July 11, 2008.
James R. Hannon, Jr.,
Acting Chief, Operations, Directorate of Civil Works.

[FR Doc. E8-16454 Filed 7-17-08; 8:45 am]

BILLING CODE 3710-92-P